DEPARTMENT OF ENERGY

Federal Energy Regulatory Commission

[Docket No. RP02-114-001]

Tennessee Gas Pipeline Company; Notice of Technical Conference

May 17, 2002.

Take notice that a technical conference will be convened to address issues raised by the filing in the above reference proceeding. The technical conference will be held on Monday June 24, 2002 at 1 p.m. in a room to be designated at the offices of the Federal Energy Regulatory Commission, 888 First Street, NE., Washington, DC 20426.

All interested parties and staff are permitted to attend.

Magalie R. Salas,
Secretary.

[FR Doc. 02-12947 Filed 05-22-02; 8:45 am]

BILLING CODE 6717-01-P